DEPARTMENT OF TRANSPORTATION

Federal Aviation Administration

14 CFR Part 97

[Docket No. 30711; Amdt. No. 3362]

Standard Instrument Approach Procedures, and Takeoff Minimums and Obstacle Departure Procedures; Miscellaneous Amendments

AGENCY: Federal Aviation Administration (FAA), DOT.

ACTION: Final rule.

SUMMARY: This establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective March 1, 2010. The compliance date for each SIAP, associated Takeoff Minimums, and ODP is specified in the amendatory provisions.

The incorporation by reference of certain publications listed in the regulations is approved by the Director of the Federal Register as of March 1, 2010.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125); Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule ” under DOT Regulatory Policies and Procedures (44 FR 11034; February 26, 1979); and (3)does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (Air).

Issued in Washington, DC, on February 19, 2010.
John M. Allen,
Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 8 APR 2010

Atka, AK, Atka, GPS-A, Orig, CANCELLED

Atka, AK, Atka, RNAV (GPS)-A, Orig

Brewton, AL, Brewton Muni, VOR/DME RWY 30, Amdt 8

Ozark, AR, Ozark-Franklin County, VOR/DME-A, Amdt 4

San Diego, CA, Montgomery Field, ILS OR LOC RWY 28R, Amdt 4

San Diego, CA, Montgomery Field, RNAV (GPS) RWY 28R, Amdt 1

Hayden, CO, Yampa Valley, ILS OR LOC/DME Y RWY 10, Amdt 3

Hayden, CO, Yampa Valley, RNAV (GPS) RWY 28, Amdt 1

Hayden, CO, Yampa Valley, RNAV (GPS) Y RWY 10, Amdt 2

Hayden, CO, Yampa Valley, RNAV (RNP) Z RWY 10, Amdt 1

Windsor Locks, CT, Bradley Intl, ILS OR LOC RWY 24, ILS RWY 24 (CAT II), Amdt 11

Windsor Locks, CT, Bradley Intl, RNAV (GPS) RWY 24, Amdt 2

Fort Pierce, FL, St Lucie County Intl, RNAV (GPS) RWY 32, Orig

Okeechobee, FL, Okeechobee County, RNAV (GPS) RWY 5, Amdt 1

Okeechobee, FL, Okeechobee County, RNAV (GPS) RWY 14, Orig

Okeechobee, FL, Okeechobee County, RNAV (GPS) RWY 23, Amdt 1

Okeechobee, FL, Okeechobee County, RNAV (GPS) RWY 32, Orig

Stuart, FL, Witham Field, GPS RWY 12, Orig, CANCELLED

Stuart, FL, Witham Field, GPS RWY 30, Amdt 1, CANCELLED

Stuart, FL, Witham Field, RNAV (GPS) RWY 12, Orig

Stuart, FL, Witham Field, RNAV (GPS) RWY 30, Orig

Lagrange, GA, Lagrange-Callaway, ILS OR LOC RWY 31, Amdt 2

Lagrange, GA, Lagrange-Callaway, RNAV (GPS) RWY 3, Orig

Lagrange, GA, Lagrange-Callaway, RNAV (GPS) RWY 13, Orig

Lagrange, GA, Lagrange-Callaway, RNAV (GPS) RWY 31, Orig

Lagrange, GA, Lagrange-Callaway, VOR RWY 13, Amdt 16

Lagrange, GA, Lagrange-Callaway, VOR/DME RNAV OR GPS RWY 31, Amdt 3, CANCELLED

Winder, GA, Barrow County, NDB RWY 31, Amdt 9

Winder, GA, Barrow County, Takeoff Minimums and Obstacle DP, Amdt 1

Clinton, IA, Clinton Muni, GPS RWY 14, Amdt 1A, CANCELLED

Clinton, IA, Clinton Muni, GPS RWY 32, Amdt 1B, CANCELLED

Clinton, IA, Clinton Muni, RNAV (GPS) RWY 14, Orig

Clinton, IA, Clinton Muni, RNAV (GPS) RWY 32, Orig

Guthrie Center, IA, Guthrie County Rgnl, GPS RWY 36, Orig, CANCELLED

Guthrie Center, IA, Guthrie County Rgnl, RNAV (GPS) RWY 18, Orig

Guthrie Center, IA, Guthrie County Rgnl, RNAV (GPS) RWY 36, Orig

Tipton, IA, Mathews Memorial, GPS RWY 11, Orig, CANCELLED

Tipton, IA, Mathews Memorial, RNAV (GPS) RWY 11, Orig

Tipton, IA, Mathews Memorial, Takeoff Minimums and Obstacle DP, Amdt 1

Vinton, IA, Vinton Veterans Memorial Arpk, GPS RWY 9, Orig, CANCELLED

Vinton, IA, Vinton Veterans Memorial Arpk, GPS RWY 27, Orig, CANCELLED

Vinton, IA, Vinton Veterans Memorial Arpk, RNAV (GPS) RWY 9, Orig

Vinton, IA, Vinton Veterans Memorial Arpk, RNAV (GPS) RWY 27, Orig

Washington, IA, Washington Muni, GPS RWY 18, Orig, CANCELLED

Washington, IA, Washington Muni, GPS RWY 36, Orig, CANCELLED

Washington, IA, Washington Muni, RNAV (GPS) RWY 18, Orig

Washington, IA, Washington Muni, RNAV (GPS) RWY 36, Orig

Washington, IA, Washington Muni, Takeoff Minimums and Obstacle DP, Amdt 1

Washington, IA, Washington Muni, VOR/DME RNAV OR GPS RWY 31, Amdt 4B, CANCELLED

McCall, ID, McCall Muni, RNAV (GPS) RWY 16, Orig

McCall, ID, McCall Muni, RNAV (GPS) Y RWY 34, Amdt 1

McCall, ID, McCall Muni, RNAV (GPS) Z RWY 34, Orig

Olney/Noble, IL, Olney/Noble, NDB RWY 3, Amdt 13

Olney/Noble, IL, Olney/Noble, RNAV (GPS) RWY 3, Orig

Olney/Noble, IL, Olney/Noble, RNAV (GPS) RWY 11, Orig

Olney/Noble, IL, Olney/Noble, Takeoff Minimums and Obstacle DP, Orig

Olney/Noble, IL, Olney/Noble, VOR/DME-A, Amdt 9

Alexandria, LA, Alexandria Intl, ILS OR LOC/DME RWY 14, Amdt 1

Alexandria, LA, Alexandria Intl, RNAV (GPS) RWY 14, Amdt 1

Alexandria, LA, Esler Rgnl, ILS OR LOC/DME RWY 27, Amdt 15

Alexandria, LA, Esler Rgnl, NDB RWY 27, Amdt 1

Alexandria, LA, Esler Rgnl, RNAV (GPS) RWY 9, Amdt 1

Alexandria, LA, Esler Rgnl, RNAV (GPS) RWY 27, Amdt 1

Alexandria, LA, Esler Rgnl, Takeoff Minimums and Obstacle DP, Amdt 2

Beverly, MA, Beverly Muni, LOC RWY 16, Amdt 7

Pittsfield, MA, Pittsfield Muni, GPS RWY 8, Amdt 1, CANCELLED

Pittsfield, MA, Pittsfield Muni, GPS RWY 26, Orig, CANCELLED

Pittsfield, MA, Pittsfield Muni, RNAV (GPS) RWY 8, Orig

Pittsfield, MA, Pittsfield Muni, RNAV (GPS) RWY 26, Orig

Hattiesburg/Laurel, MS, Hattiesburg-Laurel Rgnl, ILS OR LOC RWY 18, Amdt 7

Madison, MS, Bruce Campbell Field, GPS RWY 17, Orig, CANCELLED

Madison, MS, Bruce Campbell Field, RNAV (GPS) RWY 17, Orig

Madison, MS, Bruce Campbell Field, Takeoff Minimum and Obstacle DP, Amdt 1

Meridian, MS, Key Field, ILS OR LOC RWY 1, Amdt 25

Meridian, MS, Key Field, RNAV (GPS) RWY 1, Amdt 2

Newark, NJ, Newark Liberty Intl, GLS RWY 4L, Orig

Newark, NJ, Newark Liberty Intl, GLS RWY 4R, Orig

Ithaca, NY, Ithaca Tompkins Rgnl, Takeoff Minimums and Obstacle DP, Amdt 5

Clinton, OK, Clinton-Sherman, GPS RWY 17R, Orig-B, CANCELLED

Clinton, OK, Clinton-Sherman, GPS RWY 35L, Orig-A, CANCELLED

Clinton, OK, Clinton-Sherman, RNAV (GPS) RWY 17R, Orig

Clinton, OK, Clinton-Sherman, RNAV (GPS) RWY 35L, Orig

Hobart, OK, Hobart Rgnl, RNAV (GPS) RWY 17, Amdt 2

Hobart, OK, Hobart Rgnl, RNAV (GPS) RWY 35, Amdt 2

Georgetown, SC, Georgetown County, RNAV (GPS) RWY 23, Amdt 1

Del Rio, TX, Del Rio Intl, ILS OR LOC RWY 13, Orig

Del Rio, TX, Del Rio Intl, LOC RWY 13, Amdt 2, CANCELLED

Del Rio, TX, Del Rio Intl, RNAV (GPS) RWY 13, Amdt 2

El Paso, TX, El Paso Intl, RADAR-1, Amdt 14

El Paso, TX, El Paso Intl, VOR RWY 26L, Amdt 31

Lubbock, TX, Lubbock Preston Smith Intl, ILS OR LOC RWY 17R, Amdt 17

Lubbock, TX, Lubbock Preston Smith Intl, Takeoff Minimums and Obstacle DP, Orig

Richmond, VA, Richmond Intl, Takeoff Minimums and Obstacle DP, Amdt 1

Kelso, WA, Southwest Washington Rgnl, GPS RWY 12, Orig, CANCELLED

Kelso, WA, Southwest Washington Rgnl, NDB-A, Amdt 6

Kelso, WA, Southwest Washington Rgnl, RNAV (GPS) RWY 12, Orig

Kelso, WA, Southwest Washington Rgnl, Takeoff Minimums and Obstacle DP, Amdt 3

Charleston, WV, Yeager, ILS OR LOC RWY 5, Amdt 7

Charleston, WV, Yeager, ILS OR LOC RWY 23, Amdt 30

Charleston, WV, Yeager, RNAV (GPS) RWY 5, Orig

Charleston, WV, Yeager, RNAV (GPS) RWY 23, Orig

Charleston, WV, Yeager, Takeoff Minimums and Obstacle DP, Amdt 8

Charleston, WV, Yeager, VOR-A, Amdt 13

Rawlins, WY, Rawlins Muni/Harvey Field, NDB OR GPS-A, Amdt 9B, CANCELLED

Rawlins, WY, Rawlins Muni/Harvey Field, RNAV (GPS) RWY 22, Orig

Rawlins, WY, Rawlins Muni/Harvey Field, VOR/DME RWY 22, Amdt 2

[FR Doc. 2010-3935 Filed 2-26-10; 8:45 am]

BILLING CODE 4910-13-P